DEPARTMENT OF HEALTH AND HUMAN SERVICES

Centers for Disease Control and Prevention

Request for Nominations of Candidates To Serve on the Breast and Cervical Cancer Early Detection and Control Advisory Committee (BCCEDCAC)

The Centers for Disease Control and Prevention (CDC) is soliciting nominations for membership on the BCCEDCAC. The committee provides advice and guidance to the Secretary, HHS, and the Director, CDC, regarding the early detection and control of breast and cervical cancer. The committee makes recommendations regarding national program goals and objectives; implementation strategies; program priorities, including surveillance, epidemiologic investigations, education and training, information dissemination, professional interactions and collaborations, and policy.

Nominations are being sought for individuals who have expertise and qualifications necessary to contribute to the accomplishments of the committee's objectives. The Secretary, HHS, acting through the Director, CDC, shall appoint to the advisory committee nominees with expertise in breast cancer, cervical cancer, medicine, public health, behavioral science, epidemiology, radiology, pathology, clinical medical care, health education, and surveillance. Two members may be representatives of the general public with personal experience in issues related to breast or cervical cancer early detection and control. Members may be invited to serve for up to four years.

The next cycle of selection of candidates will conclude in the Summer of 2016, for selection of potential nominees to replace members whose terms will end on March 31, 2017.

Selection of members is based on candidates' qualifications to contribute to the accomplishment of BCCEDCAC objectives. The U.S. Department of Health and Human Services will give close attention to equitable geographic distribution and to minority and female representation so long as the effectiveness of the Committee is not impaired. Appointments shall be made without discrimination on the basis of age, race, ethnicity, gender, sexual orientation, HIV status, disability, and cultural, religious, or socioeconomic status. Consideration is given to a broad representation of geographic areas within the U.S., with diverse representation of both genders, ethnic and racial minorities, and persons with disabilities. Nominees must be U.S. citizens, and cannot be full-time employees of the U.S. Government.

Candidates should submit the following items:

Current curriculum vitae or resume, including complete contact information (name, affiliation, mailing address, telephone numbers, fax number, email address);

A 150 word biography for the nominee;

At least one letter of recommendation from a person(s) not employed by the U.S. Department of Health and Human Services. Candidates may submit letter(s) from current HHS employees if they wish, but at least one letter must be submitted by a person not employed by HHS.

Nominations should be submitted (postmarked or received) by June 24, 2016:

Electronic submissions: You may submit nominations, including attachments, electronically to bccedcac@cdc.gov.

Regular, Express or Overnight Mail: Written nominations may be submitted to the following addressee only: Ms. Jameka Reese Blackmon, MBA, CMP c/o BCCEDCAC Secretariat, Centers for Disease Control and Prevention, 3719 North Peachtree Road, Building 100, Chamblee, Georgia 30341.

Telephone and facsimile submissions cannot be accepted.

Contact Person for More Information: Jameka R. Blackmon, MBA, CMP, Designated Federal Officer, National Center for Chronic Disease Prevention and Health Promotion, CDC, 4770 Buford Hwy. NE., Mailstop F76, Atlanta, Georgia 30341, Telephone (770) 488-4880; Fax (770) 488-4760; Email: bccedcac@cdc.gov.

The Director, Management Analysis and Services Office, has been delegated the authority to sign Federal Register notices pertaining to announcements of meetings and other committee management activities, for both the Centers for Disease Control and the Agency for Toxic Substances and Disease Registry.

Catherine Ramadei,
Acting Director, Management Analysis and Services Office, Centers for Disease Control and Prevention.

[FR Doc. 2016-10421 Filed 5-3-16; 8:45 am]

BILLING CODE 4163-18-P